DEPARTMENT OF THE INTERIOR

Fish and Wildlife Service

[FWS-R9-MB-2017-N013; FF09M21200-167-FXMB1231099BPP0L2]

Information Collection Request Sent to the Office of Management and Budget (OMB) for Approval; Approval Procedures for Nontoxic Shot and Shot Coatings

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on January 31, 2017. We may not conduct or sponsor and a person is not required to respond to a collection of information unless it displays a currently valid OMB control number. However, under OMB regulations, we may continue to conduct or sponsor this information collection while it is pending at OMB.

DATES: You must submit comments on or before March 2, 2017.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS BPHC, 5275 Leesburg Pike, Falls Church, VA 22041-3803 (mail), or madonna_baucum@fws.gov (email). Please include “1018-0067” in the subject line of your comments. You may review the ICR online at http://www.reginfo.gov. Follow the instructions to review Department of the Interior collections under review by OMB.

FOR FURTHER INFORMATION CONTACT: Madonna Baucum, at madonna_baucum@fws.gov (email) or (703) 358-2503 (telephone).

SUPPLEMENTARY INFORMATION:

I. Abstract:

The Migratory Bird Treaty Act (MBTA) (16 U.S.C. 703 et seq.) prohibits the unauthorized take of migratory birds and authorizes the Secretary of the Interior to regulate take of migratory birds in the United States. Under this authority, we control the hunting of migratory game birds through regulations in 50 CFR part 20. On January 1, 1991, we banned lead shot for hunting waterfowl and coots in the United States.

Regulations at 50 CFR 20.134 outline the application and approval process for new types of nontoxic shot. When considering approval of a candidate material as nontoxic, we must ensure that it is not hazardous in the environment and that secondary exposure (ingestion of spent shot or its components) is not a hazard to migratory birds. To make that decision, we require each applicant to provide information about the solubility and toxicity of the candidate material. Additionally, for law enforcement purposes, a noninvasive field detection device must be available to distinguish candidate shot from lead shot. This information constitutes the bulk of an application for approval of nontoxic shot. The Director uses the data in the application to decide whether or not to approve a material as nontoxic.

II. Data

OMB Control Number: 1018-0067.

Title: Approval Procedures for Nontoxic Shot and Shot Coatings (50 CFR 20.134).

Expiration Date: January 31, 2017.

Service Form Number(s): None.

Type of Request: Extension of currently approved collection.

Description of Respondents: Businesses that produce and/or market approved nontoxic shot types or nontoxic shot coatings.

Respondent's Obligation: Required to obtain or retain a benefit.

Frequency of Collection: On occasion.

Estimated Number of Annual Responses: 1.

Completion Time per Response: 3,200 hours.

Estimated Total Annual Burden Hours: 3,200 hours.

Estimated Annual Non-hour Cost Burden: $26,630 ($1,630 application processing fee and $25,000 for solubility testing).

III. Comments

On November 17, 2016, we published in the Federal Register (81 FR 81153) a notice of our intent to request that OMB renew approval for this information collection. In that notice, we solicited comments for 60 days, ending on January 17, 2017. We received the following comments in response to the notice:

Comment 1: Olin/Winchester Ammunition requested clarification on the intent of our notice of intent.

Service Response: The purpose of our notice was to inform the public of our intent to renew this information collection requirement and to invite comments concerning the current information collection burden (specific information sought further spelled out below).

Comment 2: A commenter questioned the estimated burden of 3,200 hours.

Service Response: Our current estimate of burden comes from over 25 years of experience dealing with nontoxic shot applications and the companies preparing them.

Comment 3: The American Veterinary Medical Association expressed support for the information collection. Additionally, they encouraged us to change our terminology of “nontoxic shot and shot coatings” to “nontoxic ammunition and ammunition coatings” thereby being more inclusive of ammunition types

Service Response: We understand the desire to be more inclusive; however, our authority under the MBTA authorizes the Secretary of the Interior to regulate the take of migratory birds in the United States. Under this authority, we promulgate regulations controlling the hunting of migratory game birds through regulations in 50 CFR part 20. We do not have any authority over general nontoxic ammunition and ammunition coatings, only that which is used for the hunting and take of migratory birds.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Tina A. Campbell,
Chief, Division of Policy, Performance, and Management Programs, U.S. Fish and Wildlife Service.

[FR Doc. 2017-02123 Filed 1-30-17; 8:45 am]

BILLING CODE 4333-15-P